DEPARTMENT OF VETERANS AFFAIRS

Advisory Committee on Minority Veterans, Notice of Meeting

The Department of Veterans Affairs (VA), in accordance with Public Law 103-446, gives notice that a meeting of the Advisory Committee on Minority Veterans will be held from Monday, November 13 to Wednesday, November 15, 2000, at the VA Medical and Regional Office Center (VAMROC) located at 1601 Kirkwood Highway, Wilmington, DE 19805. The meeting will convene in the Director's conference room.

The purpose of the Committee is to advise the Secretary of Veterans Affairs on the administration of VA benefits and services for minority veterans, to assess the needs of minority veterans and to evaluate whether VA compensation, medical and rehabilitation services, outreach, and other programs are meeting those needs. The Committee will make recommendations to the Secretary regarding such activities.

On Monday, the Committee will focus on the Veterans Small Business and Entrepreneurial Act of 1999. The Associate Administrator for Veterans Affairs of the Small Business Administration (SBA) will brief the Committee on Veterans programs administered by SBA. Two other witnesses will brief the Committee on progress toward implementation of the Veterans Entrepreneurship and Small Business Development Act. The Committee will also be briefed on the status of its Sixth Annual Report and receive testimony from the Delaware State Director of Veterans Affairs and representatives of Community Based Organizations (CBO).

On Tuesday, the Committee will concentrate on VA programs and facilities located in the Pennsylvania/Delaware Valley. The Wilmington VAMROC Director will brief the Committee on issues impacting minority veterans who reside in the Wilmington area. The Committee will also tour the Philadelphia VA Regional Office and Insurance Center. In addition, the Committee will examine VA plans for sensitivity training and VA staffing to achieve a more diverse workforce.

On Wednesday, the Committee will examine opportunities for partnership between VA and the Health Care Finance Administration (HCFA) in an effort to determine how minority veterans can take advantage of medical care options available through Medicare and Medicaid. The Committee will also receive a presentation concerning VA research on “Race Related Experience Scale for Asian American Veterans with PTSD.”

These sessions will be open to the public. Those wishing to attend the meeting should contact Mr. Anthony T. Hawkins, Department of Veterans Affairs at (202) 273-6708. No time will be allocated for receiving oral presentations from the public. However, the Committee will accept appropriate written comments from interested parties on issues affecting minority veterans. Such comments should be referred to the Committee at the following address: Advisory Committee on Minority Veterans, Center for Minority Veterans (00M), U.S. Department of Veterans Affairs, 810 Vermont Avenue, NW., Washington, DC 20420.

Dated: October 26, 2000.
By Direction of the Acting Secretary.
Marvin R. Eason,
Committee Management Officer.

[FR Doc. 00-28081 Filed 11-1-00; 8:45 am]

BILLING CODE 8320-01-M